DEPARTMENT OF HOMELAND SECURITY

Construction and Operation of the National Biodefense Analysis and Countermeasures Center (NBACC) Facility by the Department of Homeland Security at Fort Detrick, Maryland: Record of Decision

AGENCY: Science and Technology Directorate, Department of Homeland Security.

ACTION: Notice.

SUMMARY: In keeping with the purposes of the National Environmental Policy Act (NEPA), the Department of Homeland Security (DHS), in cooperation with the United States Army Garrison, Fort Detrick, decided on January 26, 2005, after completion of the Final Environmental Impact Statement (FEIS) and a thorough consideration of public comments, to implement the Preferred Alternative in the FEIS. This action involves the construction and operation of the National Biodefense Analysis and Countermeasures Center Facility by DHS on a site adjacent to existing U.S. Army Medical Research Institute of Infectious Diseases facilities at Fort Detrick, Maryland. The notice of availability of the Draft Environmental Impact Statement is at 69 FR 56075 and the notice of intent to prepare an Environmental Impact Statement is at 69 FR 31830.

ADDRESSES: Copies of the Final EIS and this Record of Decision may be obtained by calling or mailing a request to: Dr. Kevin Anderson, Department of Homeland Security, 7435 New Technology Way, Suite A, Frederick, Maryland, 21703, by telephone (301) 846-2156, fax (301) 682-3662 or e-mail kevin.anderson@dhs.gov. The Final EIS and this Record of Decision are available at http://www.detrick.army.mil/.

FOR FURTHER INFORMATION CONTACT: Questions regarding the Final EIS or this Record of Decision can be submitted by calling or mailing them to Dr. Kevin Anderson at the above phone number or address.

SUPPLEMENTARY INFORMATION:

Record of Decision

Background

The Department of Homeland Security, DHS, and the United States Army Garrison, Fort Detrick (Cooperating Agency), have decided, after completion of the Final Environmental Impact Statement (FEIS) and a thorough consideration of public comments, to implement Alternative I (the Proposed Action), which was identified as the Preferred Alternative in the FEIS. This action involves the construction and operation of the National Biodefense Analysis and Countermeasures Center (NBACC) Facility by DHS on a site adjacent to existing U.S. Army Medical Research Institute of Infectious Diseases (USAMRIID) facilities at Fort Detrick, Maryland.

The Biological Threat Characterization Center (BTCC) and the National Bioforensics Analysis Center (NBFAC), both components of DHS, will occupy the NBACC Facility, which will contain Biosafety Level (BSL) 2, 3, and 4 laboratory and animal research facilities for conducting studies with disease-causing microbes which spread through the air or have an unknown cause. NBACC's biodefense mission is different from, but complementary to, those of USAMRIID and the National Institutes of Health (NIH) Integrated Research Facility (IRF), currently under construction at an adjoining site.

Alternatives Considered

Two alternatives were identified and evaluated in detail in the FEIS. They are Alternative I, the Proposed Action, and, Alternative II, No Action. Implementation of the Proposed Action may result in negligible to minor adverse impacts to the physical, biological, and socioeconomic environment. In instances where unavoidable minor adverse environmental impacts are anticipated, mitigation measures to lessen the negative effects have been identified. Under the No-Action Alternative, DHS would not build the NBACC Facility, and the potential negligible to minor adverse impacts associated with the Proposed Action would not occur. Although the No-Action Alternative would be environmentally preferable, its implementation would not address the needs of DHS for BSL 3, and 4 laboratory and animal research facilities.

Three additional alternatives for construction and operation of the NBACC Facility by DHS were identified but rejected as unreasonable and, therefore, were not evaluated in detail in the FEIS. These are: (1) Construction and Operation of the NBACC Facility by DHS at Another Location within Fort Detrick (Alternative III); (2) Construction and Operation of the NBACC Facility by DHS on an Existing Government-owned Property Outside Fort Detrick (Alternative IV); and (3) Construction and Operation of the NBACC Facility by DHS on a Currently Privately-owned Property Outside Fort Detrick (Alternative V). The rejected alternatives, along with the reasons for their elimination, are described below.

Factors Involved in the Decision

It was determined that the Proposed Action best satisfies DHS's needs for BSL-3 and BSL-4 laboratory and animal facilities for BTCC research and for support of operations in NBFAC. It is in accord with Fort Detrick's Installation Master Plan and conforms to USAG's planning and environmental policies. The construction and operational phases of the project will have no significant, non-mitigable, adverse environmental impacts and will result in negligible to minor risks to health and safety of the public and the workforce.

The potential adverse impacts were deemed to be mitigable through compliance with existing regulatory requirements, application of Best Management Practices (BMPs), and adherence to construction contract requirements. DHS will incorporate operational and safety safeguards in the facility to protect laboratory workers and local residents from possible harmful health and safety effects related to the operation of the facility. Operation of the NBACC Facility will not adversely impact City of Frederick residents.

None of the other alternatives examined in the EIS, including the No-Action Alternative, would be better suited to the needs of DHS. Moreover, the Proposed Action allows DHS to address a critical national shortage in BSL-4 facilities and fits the critical characteristics for location in or near the National Capital area and co-location with existing BSL-3 and BSL-4 laboratories and associated existing specialized supporting infrastructure for biocontainment facility operations, including response and security services.

Although options to locate the NBACC Facility on an alternate site at Fort Detrick (Alternative III) were also considered during the scoping process for the EIS, this is not consistent with Fort Detrick land use planning. Moreover, in comparison to the Proposed Action, it would be more distant from the existing USAMRIID facilities and the NIH IRF now under construction, and therefore, less favorable for utilization of existing infrastructure and for synergy among personnel of the three agencies.

Alternatives that would involve locating the NBACC Facility on a site outside of Fort Detrick, either on existing government-owned property (Alternative IV) or on currently privately-owned property (Alternative V) also were eliminated from detailed evaluation in the EIS during the scoping process. Those alternatives could require costly land acquisition and infrastructure development that could delay completion of the NBACC Facility by several years. Furthermore, it would be contrary to congressional intent for the building to be built outside Fort Detrick.

Practicable Means To Avoid or Minimize Potential Environmental Harm from the Selected Alternative

All practicable means to avoid or minimize adverse environmental effects from the selected action have been identified and incorporated into the selected action. Pollution prevention measures incorporated in the selected action include:

• Reducing construction waste by recycling materials wherever possible;

• Applying BMPs during construction to minimize soil erosion and potential airborne particulate matter,

• Including new state-of-the-art energy efficient equipment in the facility to reduce the energy demand on Fort Detrick electrical systems;

• Rendering all contaminated or potentially contaminated medical waste noninfectious by a combination of chemical and physical (autoclaving) methods before disposal or transport off-site;

• Sterilizing laboratory wastewater within the laboratories and, secondarily, within the facility itself through chemical disinfection or steam sterilization methods before discharging wastewater into the Fort Detrick sanitary sewer system;

• Employing High Efficiency Particulate Air filters to capture small particles in laboratory exhaust air before venting the air to the outside; and

• Requiring that NBACC Facility activities comply with the DHS waste management policies, which emphasize source segregation, inactivation, source reduction, reuse, and recycling.

Mitigation Measures, Monitoring and Enforcement

During the preparation of the FEIS several potential adverse environmental impacts associated with implementation of the selected action were identified. These included land use (land disturbance), construction noise, transportation (traffic and parking), geology (potential sinkholes), surface water resources (sedimentation, stormwater management, water supply), plant and animal ecology (displacement of deer and/or bird species), air quality (fugitive dust during construction, increased pollutant emissions during operation, increased vehicular emissions), and pollution prevention/waste management (construction wastes and handling and disposal of waste generated during operation). These potential adverse impacts were deemed to be negligible to minor, and mitigable through compliance with existing regulatory requirements, application of BMPs, and adherence to construction contract requirements.

In addition, possible adverse health and safety impacts on laboratory workers in the NBACC Facility and on nearby residents during the operational phase of the project were evaluated. The risks were deemed to be negligible to minor, and mitigable through adherence to guidelines outlined in Biosafety in Microbiological and Biomedical Laboratories, a joint publication of the Centers for Disease Control and the NIH, as well as other standards for safe operational practices.

Since potential adverse impacts would be mitigated by compliance with existing regulatory requirements, application of BMPs, and adherence to construction contract requirements, existing regulatory reporting requirements and contract administration procedures will serve in lieu of a formal Monitoring and Enforcement Program.

Conclusion

Based upon review and careful consideration of the impacts identified in the FEIS, results of various environmental and hazard assessment studies conducted in conjunction with the DEIS; public comments received throughout the National Environmental Policy Act process, including comments on the DEIS and comments received during the required 30-day waiting period for the FEIS, as well as other relevant factors, such as congressional intent, DHS and USAG, Fort Detrick, have decided to implement Alternative I, the Proposed Action, Construction and Operation of the NBACC Facility by DHS on a Site Adjacent to Existing USAMRIID Facilities at Fort Detrick, Maryland.

Dated: January 27, 2005.
Maureen I. McCarthy,
Director, Research and Development, Science and Technology Directorate, Department of Homeland Security.

[FR Doc. 05-2092 Filed 2-3-05; 8:45 am]

BILLING CODE 4410-10-P